DEPARTMENT OF AGRICULTURE

Forest Service

Final Record of Decisions for Kootenai and Idaho Panhandle National Forest Land Management Plans

AGENCY: Forest Service, USDA.

ACTION: Notice of plan approval for the Kootenai and Idaho Panhandle National Forests.

SUMMARY: Regional Forester Faye Krueger signed the final Record of Decisions (RODs) for the Kootenai and Idaho Panhandle National Forests revised Land Management Plans (Plans) on January 5, 2015. The Final RODs document the Regional Forester's decision and rationale for approving the revised Plans.

DATES: The effective date of the Plans is February 17, 2015. To view the final RODs, FEIS and revised Plans please visit the Kootenai National Forest Web site at http://www.fs.usda.gov/main/kootenai or Idaho Panhandle National Forest Web site at: http://www.fs.usda.gov/main/ipnf.

FOR FURTHER INFORMATION CONTACT: Further information about the Kootenai National Forest's revised Plan can be obtained from Chris Savage during normal office hours (weekdays, 8:00 a.m. to 4:30 p.m. Mountain Time) at the Kootenai National Forest Supervisor's Office (Address: Kootenai National Forest, 31374 US Highway 2, Libby, MT 59923-3022); Phone/voicemail: (406) 293-6211.

Further information about the Idaho Panhandle National Forests' revised Plan can be obtained from Mary Farnsworth during normal office hours (weekdays, 8:00 a.m. to 4:30 p.m. Pacific Time) at the Idaho Panhandle National Forests Supervisor's Office (Address: Idaho Panhandle National Forests, 3815 Schreiber Way, Coeur D'Alene, ID 83815); Phone/voicemail: (208) 765-7369.

Individuals who use telecommunication devices for the deaf (TDD) may call the Federal Information Relay Service (FIRS) at 1-800-877-8339 between 8:00 a.m. and 8:00 p.m., Eastern Standard Time, Monday through Friday.

SUPPLEMENTARY INFORMATION: The revised Plans describe desired conditions, include objectives, standards and guidelines, and identify lands suitable for various uses. The Plans will guide project and activity decision making and all resource management activities on the Forests for the next 15 years. They are part of the long-range resource planning framework established by the Forest and Rangeland Renewable Resources Planning of 1974 (RPA), the Government Performance and Results Act of 1993 (GPRA), and the 2012 Revision of the USDA Forest Service Strategic Plan.

The development of the revised Forest Plans spanned more than 13 years and was shaped by the best available science, current laws, public input from numerous public meetings and open houses, and more than 100 community-based work group sessions. These open meetings identified the core values of local communities regarding natural resource management and highlighted the many points of agreement that exist among diverse participants. Our national forests face many new challenges including increasing demands for multiple uses, increasing population pressures and development of neighboring lands. The revised Plans lay the foundation to address and balance the economic, ecological and social needs of forest stakeholders, while continuing the legacy of protecting water and restoring forest health. The Plans are designed to facilitate management that will: Supply clean water, provide economic opportunities for local communities, restore and maintain ecosystems, improve the resistance and resiliency of the forest vegetation to undesirable disturbances and potential climate change effects, offer a diversity of recreation opportunities including remote settings, and utilize best available science.

Dated: January 8, 2015.
Faye Krueger,
Regional Forester.

[FR Doc. 2015-00538 Filed 1-14-15; 8:45 am]

BILLING CODE 3411-15-P